NATIONAL ARCHIVES AND RECORDS ADMINISTRATION

[NARA-2019-007]

Advisory Committee on the Records of Congress

AGENCY: National Archives and Records Administration.

ACTION: Notice of Federal Advisory Committee meeting.

SUMMARY: In accordance with the Federal Advisory Committee Act, the National Archives and Records Administration (NARA) announces a meeting of the Advisory Committee on the Records of Congress.

DATES: The meeting will be on December 3, 2018, from 10:00 a.m. to 11:30 a.m.

ADDRESSES: This meeting will take place at the U.S. Capitol Visitor Center, SVC 210-212, located beneath the East Front plaza of the U.S. Capitol at First Street and East Capitol Street.

FOR FURTHER INFORMATION CONTACT: Sharon Shaver, Center for Legislative Archives, by email at sharon.shaver@nara.gov, or by telephone at 202. 357.6802.

SUPPLEMENTARY INFORMATION: The committee advises NARA on the full range of programs, policies, and plans for the Center for Legislative Archives in the Office of Legislative Archives, Presidential Libraries, and Museum Services (LPM).

The meeting is open to the public. Due to building security measures, attendees will go through entry screening and may not bring certain items into the building. Please see https://www.visitthecapitol.gov/plan-visit/prohibited-items for a list of prohibited items.

Agenda

(1) Chair's opening remarks—Clerk of the U.S. House of Representatives

(2) Recognition of co-chair—Secretary of the U.S. Senate

(3) Recognition of the Archivist of the United States

(4) Approval of the minutes of the last meeting

(5) House Archivist's report

(6) Senate Archivist's report

(7) Center for Legislative Archives update

(8) Other current issues and new business

Miranda J. Andreacchio,
Committee Management Officer.

[FR Doc. 2018-24513 Filed 11-8-18; 8:45 am]

BILLING CODE 7515-01-P